DEPARTMENT OF COMMERCE

International Trade Administration

[A-570-851]

Certain Preserved Mushrooms From the People's Republic of China: Postponement of Preliminary Results of New Shipper Review

AGENCY: Import Administration, International Trade Administration, United States Department of Commerce.

ACTION: Notice of extension of the time limit for the preliminary results in the new shipper review of the antidumping duty order on certain preserved mushrooms from the People's Republic of China.

SUMMARY: The United States Department of Commerce (“the Department”) is extending the time limit for the preliminary results of a new shipper review of the antidumping duty order on certain preserved mushrooms from the People's Republic of China (“PRC”). This review covers the period February 1, 2000 through July 31, 2000.

EFFECTIVE DATE: February 6, 2001.

FOR FURTHER INFORMATION CONTACT: David J. Goldberger or Rebecca Trainor, Import Administration, International Trade Administration, U.S. Department of Commerce, 14th Street and Constitution Avenue, N.W., Washington, D.C. 20230; telephone: (202) 482-4136 or (202) 482-4007, respectively.

Postponement of Preliminary Results of Administrative Review

On October 2, 2000, the Department initiated a new shipper review (65 FR 58735) of the antidumping duty order on certain preserved mushrooms from the PRC. The current deadline for the preliminary results in this review is March 21, 2001.

In accordance with section 751 (a)(3)(A) of the Tariff Act of 1930 (“the Act”), as amended, we determine that it is not practicable to complete this review of Green Fresh Foods (Zhangzhou) Co., Ltd. within the original time frame because of the additional time required to conduct verification. Thus, the Department is extending the time limit for completion of the preliminary results until May 31, 2001.

Dated: January 30, 2001.
Susan H. Kuhbach,
Acting Deputy Assistant Secretary for Import Administration.

[FR Doc. 01-3075 Filed 2-5-01; 8:45 am]

BILLING CODE 3510-DS-P